DEPARTMENT OF ENERGY

Federal Energy Regulatory Commission

[Project No. 8866-009]

Lynn E. Stevenson; Notice of Termination of License by Implied Surrender and Soliciting Comments and Motions To Intervene

Take notice that the following hydroelectric proceeding has been initiated by the Commission:

a. Type of Proceeding: Termination of license by implied surrender.

b. Project No.: 8866-009.

c. Date Initiated: September 23, 2011 (notice date).

d. Licensee: Lynn E. Stevenson.

e. Name and Location of Project: The constructed 70-kilowatt (kW) Project No. 2 is located on an unnamed stream, which is a tributary of the Snake River in Gooding County, ID (T. 6 S., R. 13 E., sec. 18, lot 7, Boise Meridian, Idaho).

f. Proceeding Initiated Pursuant to: Standard Article 16 of the project's license and 18 CFR 6.4 (2011).

g. FERC Contact: Diane Murray, (202) 502-8838.

h. Deadline for filing comments, protests, and motions to intervene: October 23, 2011.

Comments, Motions to Intervene, and Protests may be filed electronically via the Internet. See 18 CFR 385.2001(a)(l)(iii) and the instructions on the Commission's website under the “eFiling” link. Please include the project number (P-8866-009) on any documents or motions filed. If unable to be filed electronically, documents may be paper-filed. To paper-file, an original and eight copies should be mailed to: Secretary, Federal Energy Regulatory Commission, 888 First Street, NE., Washington, DC 20426. For more information on how to submit these types of filings, please go to the Commission's website located at http://www.ferc.gov/filing-comments.asp.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency.

i. Description of Existing Facilities: (1) An intake at elevation 2,810 feet; (2) a concrete transition box; (3) an 18-inch-diameter, 400-foot-long steel penstock; (4) a powerhouse containing a single generating unit with a rated capacity of 70 kW; (5) a tailrace discharging into the Snake River; (6) a 135-foot-long, 34.5-kV transmission line; and (7) appurtenant facilities.

j. Description of Proceeding:

Section 6.4 of the Commission's regulations, 18 CFR 6.4, provides, among other things, that it is deemed to be intent of a licensee to surrender a license, if the licensee abandons a project for a period of three years. In addition, standard Article 16 of the license for Project No. 8866 provides, in pertinent part:

If the Licensee shall cause or suffer essential project property to be removed or destroyed or to become unfit for use, without adequate replacement, or shall abandon or discontinue good faith operation of the project or refuse or neglect to comply with the terms of the license and the lawful orders of the Commission * * *, the Commission will deem it to be the intent of the Licensee to surrender the license * * *

The Commission issued a minor license for the project in 1986 to Lynn E. Stevenson.¹ The project has not operated since a downstream landslide in 1993 and has been abandoned. On April 10, 2007, during the inspection of the project by the Portland Regional office, Commission staff noted that the project was not operable and had not been operated since the landslide in 1993. During a May 11, 2010 inspection, Commission staff noted damage to the powerhouse and to the equipment in the powerhouse from previous flooding. By letter of July 27, 2011 to the estate of Lynn E. Stevenson, Commission staff required the licensee to show cause why the Commission should not initiate a proceeding to terminate the license for the project based on the licensee's implied surrender of the licensee. The licensee did not respond.

¹ 34 FERC ¶ 62,530 (1986). Mr. Stevenson died in 2003 and Black Canyon Bliss, LLC purchased the project lands and facilities from the estate of Lynn E. Stevenson. Neither the estate nor the current owners have requested a transfer of license; therefore, the license remains with the estate of Lynn Stevenson. The project has been mistakenly referred to as Project No. 8865 since 2004. The Secretary of the Commission corrected this oversight on July 18, 2011 with the issuance of a Notice of Change in Docket Numbers.

To date, the licensee has not made the necessary repairs to resume operations at the project and the project is abandoned.

k. Location of the Order: A copy of the order is available for inspection and reproduction at the Commission in the Public Reference Room or may be viewed on the Commission's website at http://www.ferc.gov using the “eLibrary” link. Enter the docket number excluding the last three digits in the docket number field to access the document. For assistance, call toll-free 1-866-208-3676 or e-mail FERCOnlineSupport@ferc.gov. For TTY, call (202) 502-8659.

l. Individuals desiring to be included on the Commission's mailing list should so indicate by writing to the Secretary of the Commission.

m. Filing and Service of Responsive Documents—Any filings must bear in all capital letters the title “COMMENTS', “PROTEST”, or “MOTION TO INTERVENE”, and “RECOMMENTATIONS FOR TERMS AND CONDITIONS”, as applicable, and the Project Number of the proceeding.

n. Agency Comments—Federal, states, and local agencies are invited to file comments on the described proceeding. If an agency does not file comments within the time specified for filing comments, it will be presumed to have no comments.

Dated: September 23, 2011.
Kimberly D. Bose,
Secretary.

[FR Doc. 2011-25054 Filed 9-28-11; 8:45 am]

BILLING CODE 6717-01-P